DEPARTMENT OF TRANSPORTATION

Federal Aviation Administration

[AC 187-1J]

Schedule of Charges Outside the United States

AGENCY: Federal Aviation Administration (FAA), DOT.

ACTION: Notice of availability.

SUMMARY: The Federal Aviation Administration (FAA) is announcing the availability of Advisory Circular (AC) 187-1J, which transmits an updated schedule of charges for services of FAA Flight Standards aviation safety inspectors (ASI) outside the United States. The AC has been updated in accordance with the procedures listed in Title 14 of the Code of Federal Regulations (14 CFR) part 187, Appendix A.

DATES: This AC is effective on October 1, 2015.

ADDRESSES: How to obtain copies: A copy of this publication may be downloaded from: http://www.faa.gov/search/?q=ac+187-1.

FOR FURTHER INFORMATION CONTACT: Ms. Tish Thompkins, Flight Standards Service, AFS-50, Federal Aviation Administration, 800 Independence Avenue SW., Washington, DC 20591, telephone (202) 267-0996.

Issued in Washington, DC, on September 16, 2015.
John Barbagallo,
Deputy Director, Flight Standards Service.

[FR Doc. 2015-24959 Filed 9-30-15; 8:45 am]

BILLING CODE 4910-13-P